DEPARTMENT OF THE TREASURY

Internal Revenue Service

Internal Revenue Service Advisory Council Meeting

AGENCY: Internal Revenue Service, Department of Treasury.

ACTION: Notice of public meeting.

SUMMARY: The Internal Revenue Service Advisory Council will hold a public meeting.

DATES: Wednesday, November 20, 2024.

ADDRESSES: 1111 Constitution Ave. NW, Washington, DC 20224.

FOR FURTHER INFORMATION CONTACT: Anna Millikan, Office of National Public Liaison, at 202-317-6564 or send an email to PublicLiaison@irs.gov.

SUPPLEMENTARY INFORMATION: Pursuant to the Federal Advisory Committee Act, the Internal Revenue Service announces the Internal Revenue Service Advisory Council (IRSAC) will hold a public meeting on Wednesday, November 20, 2024, from 9 a.m. to 12:30 p.m. eastern.

The meeting will be held in person at 1111 Constitution Ave. NW, Washington, DC. Members of the public planning to attend should register by November 18 by contacting Anna Millikan at 202-317-6564 or sending an email to PublicLiaison@irs.gov.

Issues to be discussed may include, but are not limited to: IRS Funding; Strategic Operating Plan Assessment and Analysis; Reporting of Level of Service Data; Hiring; Online Accounts Promotion; Online Accounts Technical Support; Capabilities for Business Online Tax Accounts; Authorization Techniques to Enable Businesses to Utilize Online Accounts; Identity Theft Prevention and Resolution; PTIN Database and Renewal System; Oversight of Return Preparers; Broadening Continuing Education for Enrolled Agents to Include Practice Management Topics; Process for Issuing New and Revised Forms and Obtaining Comments; Worker Classification Clarifications Needed Due to New Department of Labor Test; SECURE Act Request for Certain IRA Tax Reporting Guidance; SECURE 2.0 Act Qualified Tuition Program Transfer to Roth IRA; Businesses Need Support from IRS Large Corporation Representatives; Form 15397, Application for Extension of Time to Furnish Recipient Statements, Needs Updating to Include Additional Reasons; Electronic Recipient Statement for Form 1099-DA, Digital Asset Proceeds From Broker Transactions; Streamline E-Filing of Forms 1042; Streamlining LB&I Examination Procedures; Processing of Net Operating Loss Carryback Claims Under the CARES Act of 2020 and Erroneously Rejected Claims; Revising and Expanding the Streamlined Domestic Offshore Procedures; Simplify Reporting for Individuals Electing to be Taxed Under Section 962 at Corporate Rates on Income Inclusions; Penalties, Defenses to Penalties, and Tools to Resolve Penalties; Educating the Public on the Revenue Officer Position; Disaster Assistance to Improve the Taxpayer Experience; Increasing Tax Parity for Tribal Government Issued Tax Exempt Bonds; TEOS and E.O. BMF Improvements; Improving Communications and Data Sharing Between IRS and Various State Agencies; Section 401(a) Individually Designed Plans Determination Letter Program; Template for Exempt Organizations to Seek Penalty Abatement for Late Filed Returns; Providing Submission Acknowledgements to Exempt Organization Filers; Voicebots and Chatbots; Volunteer Income Tax Assistance (VITA) for the Gig Economy; Alternatives to Wet Ink Signatures for Forms 2848 and 8821; and Expanding and Accelerating Transcript Access. Last-minute agenda changes may preclude advance notice.

Should you wish the IRSAC to consider a written statement germane to the Council's work, file the statement by sending an email to PublicLiaison@irs.gov by November 15, 2024.

Dated: October 21, 2024.
John A. Lipold,
Designated Federal Official, Office of National Public Liaison, Internal Revenue Service.

[FR Doc. 2024-24815 Filed 10-24-24; 8:45 am]

BILLING CODE 4830-01-P